DEPARTMENT OF ENERGY

Federal Energy Regulatory Commission

Combined Notice of Filings #1

Take notice that the Commission received the following exempt wholesale generator filings:

Docket Numbers: EG20-90-000.

Applicants: Roundhouse Renewable Energy, LLC.

Description: Notice of Self-Certification of Exempt Wholesale Generator Status of Roundhouse Renewable Energy, LLC.

Filed Date: 3/6/20.

Accession Number: 20200306-5120.

Comments Due: 5 p.m. ET 3/27/20.

Take notice that the Commission received the following electric rate filings:

Docket Numbers: ER18-1667-006.

Applicants: Antelope Expansion 2, LLC.

Description: Notice of Passive Ownership Interest of Antelope Expansion 2, LLC.

Filed Date: 3/9/20.

Accession Number: 20200309-5079.

Comments Due: 5 p.m. ET 3/30/20.

Docket Numbers: ER19-1495-002.

Applicants: Virginia Electric and Power Company.

Description: Compliance filing: VEPCO Settlement Compliance Filing to be effective 2/1/2020.

Filed Date: 3/6/20.

Accession Number: 20200306-5143.

Comments Due: 5 p.m. ET 3/27/20.

Docket Numbers: ER19-2717-000.

Applicants: Madison ESS, LLC.

Description: Report Filing: Madison ESS Supplemental Refund Report Filing to be effective N/A.

Filed Date: 3/9/20.

Accession Number: 20200309-5197.

Comments Due: 5 p.m. ET 3/30/20.

Docket Numbers: ER20-954-001.

Applicants: Ohio Power Company, AEP Ohio Transmission Company, Inc., PJM Interconnection, L.L.C.

Description: Tariff Amendment: AEP submits Amendment of pending filing in Docket No. ER20-954 to be effective 4/4/2020.

Filed Date: 3/9/20.

Accession Number: 20200309-5000.

Comments Due: 5 p.m. ET 3/30/20.

Docket Numbers: ER20-1200-000.

Applicants: FPL Energy Hancock County Wind, LLC.

Description: Tariff Cancellation: FPL Energy Hancock County Wind, LLC Notice of Cancellation of MBR Tariff to be effective 3/7/2020.

Filed Date: 3/6/20.

Accession Number: 20200306-5133.

Comments Due: 5 p.m. ET 3/27/20.

Docket Numbers: ER20-1201-000.

Applicants: Wessington Wind Energy Center, LLC.

Description: Tariff Cancellation: Wessington Wind Energy Center, LLC Notice of Cancellation of MBR Tariff to be effective 3/7/2020.

Filed Date: 3/6/20.

Accession Number: 20200306-5141.

Comments Due: 5 p.m. ET 3/27/20.

Docket Numbers: ER20-1202-000.

Applicants: Wilton Wind II, LLC.

Description: Tariff Cancellation: Wilton Wind II, LLC to be effective 3/7/2020.

Filed Date: 3/6/20.

Accession Number: 20200306-5142.

Comments Due: 5 p.m. ET 3/27/20.

Docket Numbers: ER20-1203-000.

Applicants: Rock Creek Wind Project, LLC.

Description: § 205(d) Rate Filing: Rock Creek Wind Project, LLC Co-Tenancy SFA to be effective 5/4/2020.

Filed Date: 3/9/20.

Accession Number: 20200309-5001.

Comments Due: 5 p.m. ET 3/30/20.

Docket Numbers: ER20-1204-000.

Applicants: Drift Marketplace, Inc.

Description: Notice of Cancellation of Market-Based Rate Tariff of Drift Marketplace, Inc.

Filed Date: 3/6/20.

Accession Number: 20200306-5187.

Comments Due: 5 p.m. ET 3/27/20.

Docket Numbers: ER20-1205-000.

Applicants: PJM Interconnection, L.L.C.

Description: § 205(d) Rate Filing: Amendment to ISA, SA No. 4615; Queue No. AB1-138 (amend) to be effective 1/9/2017.

Filed Date: 3/9/20.

Accession Number: 20200309-5039.

Comments Due: 5 p.m. ET 3/30/20.

Docket Numbers: ER20-1206-000.

Applicants: Wolverine Power Supply Cooperative, Inc.

Description: § 205(d) Rate Filing: Amended and Restated Wholesale Power Contracts to be effective 12/31/9998.

Filed Date: 3/9/20.

Accession Number: 20200309-5056.

Comments Due: 5 p.m. ET 3/30/20.

Docket Numbers: ER20-1207-000.

Applicants: Merlin One, LLC.

Description: Notice of Cancellation of Market-Based Rate Tariff of Merline One, LLC.

Filed Date: 3/9/20.

Accession Number: 20200309-5085.

Comments Due: 5 p.m. ET 3/30/20.

Docket Numbers: ER20-1208-000.

Applicants: David Energy Supply, LLC.

Description: Baseline eTariff Filing: Application For Market Based Rate Authority to be effective 4/1/2020.

Filed Date: 3/9/20.

Accession Number: 20200309-5090.

Comments Due: 5 p.m. ET 3/30/20.

Docket Numbers: ER20-1209-000.

Applicants: Neighborhood Sun Benefit Corp.

Description: Baseline eTariff Filing: Initial Baseline Tariff Filing—Neighborhood Sun Benefit Corp to be effective 3/9/2020.

Filed Date: 3/9/20.

Accession Number: 20200309-5093.

Comments Due: 5 p.m. ET 3/30/20.

Docket Numbers: ER20-1210-000.

Applicants: Hazleton Generation LLC.

Description: Initial rate filing: Reactive Service Tariff to be effective 4/1/2020.

Filed Date: 3/9/20.

Accession Number: 20200309-5203.

Comments Due: 5 p.m. ET 3/30/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2020.
Nathaniel J. Davis, Sr.,
Deputy Secretary.

[FR Doc. 2020-05210 Filed 3-12-20; 8:45 am]

BILLING CODE 6717-01-P